DEPARTMENT OF HOMELAND SECURITY

Coast Guard

[Docket No. USCG-2024-0182]

National Merchant Marine Personnel Advisory Committee; March 2024 Meetings

AGENCY: U.S. Coast Guard, Department of Homeland Security.

ACTION: Notice of open Federal advisory committee meetings.

SUMMARY: The National Merchant Marine Personnel Advisory Committee (Committee) will conduct a series of meetings over two days in Edmonds, WA to discuss issues relating to personnel in the United States Merchant Marine including the training, qualifications, certification, documentation, and fitness of mariners.

DATES:

Meetings: The National Merchant Marine Personnel Advisory Committee is scheduled to meet on Tuesday, March 26, 2024, from 9 a.m. until 4:30 p.m. Pacific daylight time (PDT) and Wednesday, March 27, 2024, from 9 a.m. until 4:30 p.m. (PDT). The Committee meeting on Tuesday, March 26, 2024, will include periods during which the Committee will break into subcommittees. These meetings may adjourn early if the Committee has completed its business.

Comments and supporting documentation: To ensure your comments are received by Committee members before the meeting, submit your written comments no later than March 18, 2024.

ADDRESSES: The meetings will be held at Compass Courses, additional information about the facility can be found at: https://compasscourses.com.

The National Merchant Marine Personnel Advisory Committee is committed to ensuring all participants have equal access regardless of disability status. If you require reasonable accommodation due to a disability to fully participate, please email Mrs. Megan Johns Henry at megan.c.johns@uscg.mil or call at (202) 372-1255 as soon as possible.

Instructions: You are free to submit comments at any time, including orally at the meetings as time permits, but if you want Committee members to review your comment before the meeting, please submit them no later than March 18, 2024. We are particularly interested in comments on the topics in the “Agenda” section below. We encourage you to submit comments through the Federal Decision Making Portal at https://www.regulations.gov. To do so, go to https://www.regulations.gov, type USCG-2024-0182 in the search box and click “Search”. Next, look for this document in the Search Results column, and click on it. Then click on the Comment option. If you cannot submit your material using https://www.regulations.gov, email the individual in the FOR FURTHER INFORMATION CONTACT section of this document for alternate instructions. You must include the docket number USCG-2024-0182. Comments received will be posted without alteration at https://www.regulations.gov, including any personal information provided. You may wish to review the Privacy and Security Notice, found via link on the homepage https://www.regulations.gov. For more about privacy and submissions in response to this document, see DHS's eRulemaking System of Records notice (85 FR 14226, March 11, 2020). If you encounter technical difficulties with comment submission, contact the individual listed in the FOR FURTHER INFORMATION CONTACT section of this notice.

Docket Search: Documents mentioned in this notice as being available in the docket, and all public comments, will be in our online docket at https://www.regulations.gov and can be viewed by following that website's instructions. Additionally, if you go to the online docket and sign-up for email alerts, you will be notified when comments are posted.

FOR FURTHER INFORMATION CONTACT: Mrs. Megan Johns Henry, Alternate Designated Federal Officer of the National Merchant Marine Personnel Advisory Committee, telephone (202) 372-1255, or email megan.c.johns@uscg.mil.

SUPPLEMENTARY INFORMATION: Notice of these meetings is in compliance with the Federal Advisory Committee Act (Pub. L. 117-286, 5 U.S.C. ch. 10). The National Merchant Marine Personnel Advisory Committee is authorized by section 601 of the Frank LoBiondo Act of 2018 and is codified in 46 U.S.C. 15103. The Committee operates under the provisions of the Federal Advisory Committee Act and 46 U.S.C. 15109. The National Merchant Marine Personnel Advisory Committee provides advice and recommendations to the Secretary of Homeland Security through the Commandant of the United States Guard on matters relating to personnel in the United States Merchant Marine including the training, qualifications, certification, documentation, and fitness of mariners.

Agenda: The National Merchant Marine Personnel Advisory Committee will meet on Tuesday, March 26, 2024 and Wednesday, March 27, 2024, to review, discuss, deliberate, and formulate recommendations, as appropriate on the following topics:

Day 1

The agenda for the March 26, 2024 meeting is as follows:

(1) The full Committee will meet briefly to discuss subcommittees' business and task statements, which are listed under paragraph (11) under Day 2 below.

(2) During the morning session of the meeting, subcommittees will separately address and work on the following task statements, which are available for viewing at https://homeport.uscg.mil/missions/federal-advisory-committees/national-merchant-marine-personnel-advisory-committee-(nmerpac)/task-statements:

(a) Task Statement 21-5, Review of Merchant Mariner Rating and Officer Endorsement Job Task Analyses;

(b) Task Statement 21-4, STCW Convention and STCW Code Review; and

(c) Task Statement 21-2, Communication Between External Stakeholders and the Mariner Credentialing Program.

(3) During the afternoon session of the meeting, subcommittees will separately address and work on the following task statements, which are available for viewing at https://homeport.uscg.mil/missions/federal-advisory-committees/national-merchant-marine-personnel-advisory-committee-(nmerpac)/task-statements:

(a) Task Statement 21-5, Review of Merchant Mariner Rating and Officer Endorsement Job Task Analyses;

(b) Task Statement 21-4, STCW Convention and STCW Code Review; and

(c) Task Statement 22-2, Alternative Methods for Meeting STCW Training Requirements at the Operational Level.

(4) Report of subcommittees. At end of the day, the Chair or Co-Chairs of the subcommittees will report to the full Committee on what was accomplished. The full Committee will not take action on this date and the Chair or Co-Chairs of the subcommittees will present a full report to the Committee on Day 2 of the meeting.

(5) Adjournment of meeting.

Day 2

The agenda for the March 27, 2024 meeting is as follows:

(1) Introduction.

(2) Designated Federal Officer and U.S. Coast Guard Leadership remarks.

(3) Roll call of Committee members and determination of a quorum.

(4) Adoption of the agenda.

(5) Acceptance of Minutes from Committee Meeting 6 (December 12, 2023).

(6) Introduction of new task.

(7) Homeport demonstration.

(8) Office of Merchant Mariner Credentialing update presentation.

(9) Public comment period.

(10) National Maritime Center update presentation.

(11) Reports from the subcommittee Chair or Co-Chairs.

The Committee will review the information presented on the following Task Statements and deliberate on any recommendations presented by the subcommittees, recommendations may be approved and completed tasks may be closed. Official action on these topics may be taken:

(a) Task Statement 21-1, Review of IMO Model Courses Being Validated by the IMO HTW Subcommittee;

(b) Task Statement 21-2, Communication Between External Stakeholders and the Mariner Credentialing Program, including amendment Task Statement 21-2A, Reviewing Assessments in NVICS for STCW;

(c) Task Statement 21-3, Military Education, Training, and Assessment for STCW and National Mariner Endorsements;

(d) Task Statement 21-4, STCW Convention and Code Review;

(e) Task Statement 21-5, Review of Merchant Mariner Rating and Officer Endorsement Job Task Analyses;

(f) Task Statement 21-6, Sea Service for Merchant Mariner Credential Endorsements;

(g) Task Statement 21-9, Sexual Harassment and Sexual Assault-Prevention and Culture Change in the Merchant Marine;

(h) Task Statement 22-1, Propulsion Power Limits;

(i) Task Statement 22-2, Alternative Methods for Meeting STCW Training Requirements at the Operational Level;

(j) Task Statement 23-2, Critical Skills for Navigation Using Nautical Charts and Training and Assessments of Skills Using Electronic Navigational Charts; and

(k) Task Statement 23-3, Critical Skills for Radar Navigation and Collision Avoidance and Training and Assessment of Skills Using Radar and Automatic Radar Plotting Aids (ARPA).

(12) Closing remarks.

(13) Adjournment of meeting.

A copy of all meeting documentation will be available at https://homeport.uscg.mil/missions/federal-advisory-committees/national-merchant-marine-personnel-advisory-committee-(nmerpac) by March 11, 2024. Alternatively, you may contact the individual noted in the FOR FURTHER INFORMATION CONTACT section above.

Public comments or questions will be taken throughout the meetings as the Committee discusses the issues, and prior to deliberations and voting. There will also be a public comment period during the meeting on March 27, 2024, at approximately 12:30 p.m. (PDT). Public comments will be limited to 3 minutes per speaker and limited to one comment per person. Please note that the public comments period will end following the last call for comments. Please contact the individual listed in the FOR FURTHER INFORMATION CONTACT section to register as a speaker.

Dated: February 29, 2024.
Jeffrey G. Lantz,
Director of Commercial Regulations and Standards.

[FR Doc. 2024-04777 Filed 3-5-24; 8:45 am]

BILLING CODE 9110-04-P